DEPARTMENT OF ENERGY

Federal Energy Regulatory Commission

Notice of Filings

March 20, 2006.

Take notice that the Commission received the following electric rate filings.

Docket Numbers: ER06-499-001.

Applicants: PJM Interconnection L.L.C.

Description: PJM Interconnection, LLC submits an amendment to its 1/18/06 filing of revisions to the PJM Open Access Transmission Tariff.

Filed Date: 3/14/2006.

Accession Number: 20060317-0284.

Comment Date: 5 p.m. Eastern Time on Tuesday, April 4, 2006.

Docket Numbers: ER06-542-001.

Applicants: Wisconsin Electric Power Company.

Description: Wisconsin Electric Power Co amends its 1/25/06 filing to reflect subsequent change in the Commission's regulations.

Filed Date: 3/14/2006.

Accession Number: 20060317-0285.

Comment Date: 5 p.m. Eastern Time on Tuesday, April 4, 2006.

Docket Numbers: ER06-700-001.

Applicants: California Independent System Operator Corporation.

Description: California Independent System Operator Corp submits clarifications and corrections to their March 2006 Credit Policy Amendments.

Filed Date: 3/14/2006.

Accession Number: 20060317-0273.

Comment Date: 5 p.m. Eastern Time on Tuesday, April 4, 2006.

Docket Numbers: ER06-726-000.

Applicants: Madison Windpower, LLC.

Description: Madison Windpower LLC petitions the Commission for order accepting market-based rate schedule for filing and granting waivers and blanket approvals.

Filed Date: 3/14/2006.

Accession Number: 20060317-0274.

Comment Date: 5 p.m. Eastern Time on Tuesday, April 4, 2006.

Docket Numbers: ER06-727-000.

Applicants: Southwest Power Pool, Inc.

Description: Southwest Power Pool Inc submits an unexecuted service agreement for Point-to-Point Transmission Service with Calpine Energy Services LP, effective 2/15/06.

Filed Date: 3/14/2006.

Accession Number: 20060317-0275.

Comment Date: 5 p.m. Eastern Time on Tuesday, April 4, 2006.

Docket Numbers: ER06-728-000.

Applicants: Mirant Potrero LLC.

Description: Mirant Potrero LLC submits revisions to its must Must-Run Service Agreement with the California Independent System Operator Corp.

Filed Date: 3/14/2006.

Accession Number: 20060317-0276.

Comment Date: 5 p.m. Eastern Time on Tuesday, April 4, 2006.

Docket Numbers: ER06-729-000.

Applicants: Southwest Power Pool, Inc.

Description: Southwest Power Pool, Inc submits revisions to its Open Access Transmission Tariff.

Filed Date: 3/14/2006.

Accession Number: 20060317-0277.

Comment Date: 5 p.m. Eastern Time on Tuesday, April 4, 2006.

Docket Numbers: ER06-730-000.

Applicants: Midwest Independent Transmission System Operator, Inc.

Description: Midwest Independent Transmission System Operator Inc submits proposed revisions to its Open Access Transmission and Energy Markets Tariff, FERC Electric Tariff, Third Revised Volume.

Filed Date: 3/14/2006.

Accession Number: 20060317-0278.

Comment Date: 5 p.m. Eastern Time on Tuesday, April 4, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov, or call (866) 208-3676 (toll free). For TTY, call (202) 502-8659.

Magalie R. Salas,
Secretary.

[FR Doc. E6-4801 Filed 4-3-06; 8:45 am]

BILLING CODE 6717-01-P